DEPARTMENT OF HOMELAND SECURITY

[Docket No. USCG-2011-0705]

Merchant Marine Personnel Advisory Committee, Correction

AGENCY: Coast Guard, DHS.

ACTION: Notice of Federal Advisory Committee Meeting; correction.

SUMMARY: On August 16, 2011 (76 FR 50744), the Coast Guard published a notice of meeting for the Merchant Marine Personnel Advisory Committee in the Federal Register. The Merchant Marine Personnel Advisory Committee was unable to complete all agenda items during a two day working group meeting on September 8-9, 2011 therefore, Coast Guard is adding a day to the meeting. This notice corrects the August 16, 2011 (76 FR 50744) Federal Register notice.

FOR FURTHER INFORMATION CONTACT: Mr. Rogers Henderson, Maritime Personnel Qualification Division, U.S. Coast Guard, telephone 202-372-1408, e-mail Rogers.W.Henderson@uscg.mil.

SUPPLEMENTARY INFORMATION: On August 16, 2011 (76 FR 50744), the Coast Guard published a notice of meeting for the Merchant Marine Personnel Advisory Committee (MERPAC) on October 6-7, 2011, in the Federal Register. The Merchant Marine Personnel Advisory Committee was unable to complete all agenda items during a two day working group meeting on September 8-9, 2011. Therefore, Coast Guard is adding a day to the October meeting to allow the working group to complete its agenda items prior to the full MERPAC meeting. Subsequent to the publication of that notice, the Coast Guard realized that another day and an agenda needed to be added.

Correction

In the Federal Register of August 16, 2011, in FR Doc. 2011-0705, on page 50744, in the second column, correct the SUMMARY dates to read: October 5, 2011, October 6, 2011, and October 7, 2011.

On page 50744, in the third column, correct the DATES caption to read: MERPAC working groups will meet on October 5, 2011, from 8 a.m. until 5 p.m., October 6, 2011, from 8 a.m. until 4 p.m., and the full committee will meet on October 7, 2011, from 8 a.m. until 4 p.m.

On page 50744, in the third column, correct the ADDRESSES caption to read: The Committee will meet in Room 2501 and 4202 of Coast Guard Headquarters, 2100 Second Street, SW., Washington, DC 20593.

On page 50745, in the first column, insert the following after the Agenda of Meeting caption:

Day 1

The agenda for the October 5, 2011, meeting is as follows:

(1) A working group will meet to discuss and prepare proposed recommendations for the full committee to consider concerning Task Statement 75, entitled, “Review of the Supplemental Notice of Proposed Rulemaking Concerning the Implementation of the Amendments to the International Convention on Standards of Training, Certification and Watchkeeping for Seafarers, 1978, and Changes to Domestic Endorsements;”

(2) Public comment period; and

(3) Adjournment of meeting.

On page 50745, in the first column, change “Day 1” to read “Day 2”.

On page 50745, in the second column, change “Day 2” to read “Day 3”.

Dated: September 15, 2011.
Kathryn Sinniger,
Chief, Office of Regulations and Administrative Law.

[FR Doc. 2011-24170 Filed 9-20-11; 8:45 am]

BILLING CODE P